SURFACE TRANSPORTATION BOARD

30-Day Notice of Intent To Seek Extension of Approval: Demurrage Liability Disclosure Requirements

AGENCY: Surface Transportation Board.

ACTION: Notice and request for comments.

SUMMARY: As part of its continuing effort to reduce paperwork burdens, and as required by the Paperwork Reduction Act of 1995, the Surface Transportation Board (STB or Board) gives notice that it is requesting from the Office of Management and Budget (OMB) an extension of approval for the collection of Demurrage Liability Disclosure Requirements. The Board previously published a notice about this collection in the Federal Register. 60-Day Notice of Intent to Seek Extension of Approval: Demurrage Liability Disclosure Requirements, 82 FR 16,872 (Apr. 6, 2017). That notice allowed for a 60-day public review and comment period. No comments were received.

DATES: Comments on this information collection should be submitted by September 15, 2017.

ADDRESSES: Written comments should be identified as “Paperwork Reduction Act Comments, Surface Transportation Board: Demurrage Liability Disclosure Requirements.” These comments should be directed to the Office of Management and Budget, Office of Information and Regulatory Affairs, Attention: Chad Lallemand, Surface Transportation Board Desk Officer, by email at oira_submission@omb.eop.gov, by fax at (202) 395-6974; or by mail to Room 10235, 725 17th Street NW., Washington, DC 20503. Please also direct comments to Chris Oehrle, PRA Officer, Surface Transportation Board, 395 E Street SW., Washington, DC 20423-0001, or to pra@stb.gov.

FOR FURTHER INFORMATION CONTACT: For further information regarding this collection, contact Michael Higgins, Deputy Director, Office of Public Assistance, Governmental Affairs, and Compliance at (202) 245-0284 or at michael.higgins@stb.gov. [Assistance for the hearing impaired is available through the Federal Information Relay Service (FIRS) at 1-800-877-8339.]

SUPPLEMENTARY INFORMATION: Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Demurrage Liability Disclosure Requirements.

OMB Control Number: 2140-0021.

STB Form Number: None.

Type of Review: Extension with change (relating to the change in burden hours based on the estimated decrease in (a) the number of respondents from 650 to 575 and (b) the time per response from eight hours to one hour, due to fact that the unique burdens associated with the initiation of the collection no longer exist).

Respondents: Freight railroads subject to the Board's jurisdiction.

Number of Respondents: 575 (including seven Class I [i.e., large] railroads).

Estimated Time per Response: One hour.

Frequency: Occasionally. The notice requirement is triggered in two circumstances: (1) When a shipper initially arranges with a railroad for transportation of goods pursuant to the railroad's tariff; or (2) when a railroad changes the terms of its demurrage tariff.

Total Burden Hours (annually including all respondents): 864.6 hours. Board staff estimates that: (1) Seven Class I railroads will each take on 15 new customers each year (105 hours); (2) each of the seven Class I railroads will update its demurrage tariffs every three years (2.3 hours annualized); (3) 568 non-Class I railroads will each take on one new customer a year (568 hours); and (4) each non-Class I railroad will update its demurrage tariffs every three years (189.3 hours annualized).

Total “Non-hour Burden” Cost: No non-hourly cost burdens associated with this collection have been identified. The notice may be provided electronically.

Needs and Uses: Demurrage is a charge that railroads assess their customers for detaining rail cars beyond a specified amount of time. It both compensates railroads for expenses incurred for that rail car, and serves as a penalty for undue car detention to promote efficiency. Demurrage is subject to the Board's jurisdiction under 49 U.S.C. 10702 and 10746, which require railroads to compute demurrage charges and to establish demurrage-related rules.

A railroad and its customers may enter into demurrage contracts without providing notice, but, in the absence of such contracts, demurrage will be governed by the railroad's demurrage tariff. Under 49 CFR 1333.3, a railroad's ability to charge demurrage pursuant to its tariff is conditional on its having given, prior to rail car placement, actual notice of the demurrage tariff to the person receiving rail cars for loading and unloading. Once a shipper receives a notice as to a particular tariff, additional notices are only required when the tariff changes materially. The parties use the information in these disclosure requirements to avoid demurrage disputes, and the Board uses the information to resolve demurrage disputes that come before the agency.

Under the PRA, a federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information.

Dated: August 11, 2017.
Jeffrey Herzig,
Clearance Clerk.

[FR Doc. 2017-17340 Filed 8-15-17; 8:45 am]

BILLING CODE 4915-01-P